ENVIRONMENTAL PROTECTION AGENCY

[ER-FRL-6631-4]

Environmental Impact Statements; Notice of Availability

Responsible Agency: Office of Federal Activities, General Information (202) 564-7167 or http://www.epa.gov/compliance/nepa/.

Weekly Receipt of Environmental Impact Statements

Filed July 14, 2002 Through July 19, 2002

Pursuant to 40 CFR 1506.9.

EIS No. 020308, DRAFT EIS, SFW, AZ, Roosevelt Habitat Conservation Plan, Issuance of an Incidental Take Permit to Allow Continued Operation of Roosevelt Dam and Lake, Implementation, Gila and Maricopa Counties, AZ, Comment Period Ends: September 17, 2002, Contact: Sherry Barrett (520) 670-4617.

EIS No. 020309, FINAL EIS, AFS, CA, Star Fire Restoration Removal of Fire-Killed Trees, Road Reconstruction, and Associated Restoration, Eldorado National Forests (ENF) Georgetown Ranger District, Middle Fork American River, Chipmunk Ridge and the North Fork of Long Canyon, Placer County, CA, Wait Period Ends: August 26, 2002, Contact: Patricia Ferrell (530) 642-5146.

EIS No. 020310, DRAFT EIS, NRS, MO, Little Otter Creek Watershed Plan, Installation of One Multi-Purpose Reservoir and Development of Basic Facilities for Recreational Use, Implementation, Caldwell County, MO, Comment Period Ends: September 09, 2002, Contact: Roger A. Hansen (573) 876-0901.

EIS No. 020311, FINAL EIS, AFS, AK, Chugach National Forest, Proposed Revised Land and Resource Management Plan, Implementation, Glacier, Seward and Cordora Ranger Districts, Kenai Peninsula Borough, AK, Wait Period Ends: August 26, 2002, Contact: Dave R. Gibbons (907) 743-9500. This document is available on the Internet at: http://www.agdc.usgs.gov/cnp.

EIS No. 020312, FINAL EIS, FRC, WA, Georgia Strait Crossing Pipeline (LP) Project, Construction and Operation, To Transport Natural Gas from the Canadian Border near Sumas, WA to US/Canada Border at Boundary Pass in the Strait of Georgia, Docket Nos. CP01-176-000 and CP01-179-000, Whatcom and San Juan Counties, WA, Wait Period Ends: August 26, 2002, Contact: Paula Felt (202) 208-1088. This document is available on the Internet at: http://www.ferc.gov.

EIS No. 020313, FINAL EIS, BLM, NV, Leeville Mining Project, Propose to Develop and Operate an Underground Mine and Ancillary Facilities including Dewatering Operation, Plan-of-Operations/Right-of-Way Permits and COE Section 404 Permit, Elko and Eureaka Counties, NV, Wait Period Ends: August 26, 2002, Contact: Deb McFarlane (775) 753-0200.

EIS No. 020314, DRAFT EIS, AFS, OR, Granite Area Mining Projects, Propose to Approve Plans of Operation on 16 Mining Claims within the Granite Creek Watershed, Implementation, North Fork John Day Ranger District, Umatilla National Forest, Grant County, OR, Comment Period Ends:September 09, 2002, Contact: Robert Reed (541) 427-5335.

EIS No. 020315, FINAL EIS, FHW, DC, NC, VA, Southeast High Speed Rail Corridor, From Washington, DC to Charlotte, NC, To Provide a Competitive Transportation Choice to Traveler, Funding and Federal Permits, DC, VA, NC, Wait Period Ends: August 26, 2002, Contact: Nicholas L. Graf (919) 508-1917.

EIS No. 020316, DRAFT EIS, NAS, 00, PROGRAMMATIC—MARS Exploration Rover—2003 (MER-2003) Project, Continuing the Long-Term Exploration of MARS, Implementation, Comment Period Ends: September 09, 2002, Contact: David Lavery (202) 358-4800. This document is available on the Internet at: http://www.spacescience.nasa.gov/admin/pubs/mereis/index.htm.

EIS No. 020317, FINAL EIS, BLM, NV, Table Mountain Wind Generating Facility Project, Construction of a 150 to 205 Megawatt (MW) Wind Powered Electric Generation Facility and Ancillary Facilities, Right-of-Way Grant, Spring Mountain Range between the Communities of Goodsprings, Sandy Valley, Jean and Primm, Clark County, NV, Wait Period Ends: August 26, 2002, Contact: Jerry Crockford (505) 599-6333.

Amended Notices

EIS No. 020281, DRAFT EIS, USA, UT, Activities Associated with Future Programs at US Army Dugway Proving Ground, Implementation, Tooele and Jaub Counties, UT, Comment Period Ends: August 19, 2002, Contact: Nicholas J. Cavallaro (703) 697-8995. Revision of FR Notice Published on 07/05/2002: CEQ Comment Period Ending 08/19/2002 has been Reestablished to 09/09/2002. Due to Incomplete Distribution of the DEIS at the time of Filing with USEPA under Section 1506.9 of the CEQ Regulations.

Dated: July 22, 2002.
Joseph C. Montgomery,
Director, NEPA Compliance Division, Office of Federal Activities.

[FR Doc. 02-19008 Filed 7-25-02; 8:45 am]

BILLING CODE 6560-50-P